DEPARTMENT OF ENERGY

Federal Energy Regulatory Commission

[Project No. 2692-046]

Duke Energy Carolinas, LLC; Notice of Application for Amendment of License, and Soliciting Comments and Motions To Intervene

October 8, 2009.

Take notice that the following application has been filed with the Commission and is available for public inspection:

a. Application Type: Request for Waiver.

b. Project No: 2692-046.

c. Date Filed: September 22, 2009.

d. Applicant: Duke Energy Carolinas, LLC.

e. Name and Location of Project: The Nantahala Project is located on the Nantahala River, Dicks Creek, and Whiteoak Creek in Clay and Macon counties, North Carolina.

f. Filed Pursuant to: The application was filed pursuant to 18 CFR 4.201.

g. Applicant Contact: George A. Galleher, P.E., Duke energy Corporation, LLC, EC11J, PO Box 1006, Charlotte, NC 28201-1006, (704) 382-5236.

h. FERC Contact: Any questions on this notice should be addressed to Robert H. Grieve, (202) 502-8752 or robert.grieve@ferc.gov.

i. Deadline for filing comments and motions: Comments on the application for amendment of license are due within 30 days of the issuance date of this notice.

All documents (original and eight copies) should be filed with: Kimberly D. Bose, Secretary, Federal Energy Regulatory Commission, 888 First Street, NE., Washington, DC 20426.

Please include the project number (P-2692-046) on any comments or motions filed.

Comments may be filed electronically via the Internet in lieu of paper. The Commission strongly encourages electronic filings. See 18 CFR 385.2001(a)(1)(iii) and the instructions on the Commission's Web site (http://www.ferc.gov) under the “e-Filing” link.

j. Background and Description of Proposal: Duke Energy Carolinas, LLC, licensee for the Nantahala Project, filed a request for a waiver of the length-of-time requirement of ordering paragraph (B) of the Order Approving Settlement and Amending License, issued May 5, 1999. Ordering paragraph (B) of that order requires that the licensee release from the Whiteoak Creek pipeline into Dicks Creek a continuous minimum flow of 8 cubic feet per second (cfs) from July 1 to November 15. Ordering paragraph (B) also states, in part, that this flow may be temporarily modified for short periods upon mutual agreement between the licensee and the requisite state and federal resource agencies. In order to refurbish the project station's rotor and paint significant portions of the project penstock, the Whiteoak penstock will be drained, which will eliminate the requisite 8 cfs minimum flow for 71 days.

By order issued April 1, 1996, the Commission defined a temporary modification as a few weeks or less. Therefore, the licensee cannot use the provisions of ordering paragraph (B) of the Commission's May 5, 1999 order, to authorize the long term suspension of the 8 cfs minimum flow. Such a long-term modification would be an amendment of license and must be processed as such.

k. Locations of the Application: The licensee's September 22, 2009 filing is available for review at the Commission in the Public Reference Room or may be viewed on the Commission's Web site at http://www.ferc.gov using the “eLibrary” link. Enter the docket number excluding the last three digits in the docket number field to access the documents. For assistance, contact FERC Online Support at FERCOnlineSupport@ferc.gov or toll-free at 1-866-208-3676, or for TTY, (202) 502-8659. A copy is also available for inspection and reproduction at the address in item g above.

You may also register online at http://www.ferc.gov/docs-filing/esubscription.asp to be notified via e-mail of new filings and issuances related to this or other pending projects. For assistance, contact FERC Online Support.

l. Individuals desiring to be included on the Commission's mailing list should so indicate by writing to the Secretary of the Commission.

Comments—Anyone may submit comments or a motion to intervene in accordance with the requirements of Rules of Practice and Procedure, 18 CFR 385.210 and 385.214. In determining the appropriate action to take, the Commission will consider all comments and motions to intervene, but only those who file a motion to intervene in accordance with the Commission's Rules may become a party to the proceeding. Any comments or motions to intervene must be received on or before the specified comment date for the application.

Filing and Service of Responsive Documents—Any filings must bear in all capital letters the title “COMMENTS” or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E9-24908 Filed 10-15-09; 8:45 am]

BILLING CODE 6717-01-P